DEPARTMENT OF HEALTH AND HUMAN SERVICES

Centers for Disease Control and Prevention

[RFA IP05-103]

Poliovirus Antibody Seroprevalence Among Inner City Preschool Children, Post-OPV Era; Notice of Availability of Funds—Amendment

A notice announcing the availability of fiscal year (FY) 2005 funds for a cooperative agreement for Poliovirus Antibody Seroprevalence Among Inner City Preschool Children, Post-OPV Era was published in the Federal Register, Tuesday, May 10, 2005, Volume 70, Number 89, pages 24594-24598.

This notice has been withdrawn and applications are not being accepted for funding.

Dated: June 2, 2005.
William P. Nichols,
Director, Procurement and Grants Office, Centers for Disease Control and Prevention.

[FR Doc. 05-11526 Filed 6-9-05; 8:45 am]

BILLING CODE 4163-18-P